SMALL BUSINESS ADMINISTRATION

[Declaration of Disaster #3241]

State of Ohio

As a result of the President's major disaster declaration on March 7, 2000, and an amendment thereto on March 10, I find that the Counties of Adams, Gallia, Jackson, Lawrence, Meigs, Pike, and Scioto in the State of Ohio constitute a disaster area due to damages caused by severe storms and flooding beginning on February 18, 2000 and continuing through March 2, 2000. Applications for loans for physical damage as a result of this disaster may be filed until the close of business on May 6, 2000 and for economic injury until the close of business on December 7, 2000 at the address listed below or other locally announced locations: U.S. Small Business Administration, Disaster Area 2 Office, One Baltimore Place, Suite 300, Atlanta, GA 30308.

In addition, applications for economic injury loans from small businesses located in the contiguous counties of Athens, Brown, Highland, Ross, and Vinton in the State of Ohio may be filed until the specified date at the above location.

Any counties contiguous to the above-named primary counties and not listed herein have been covered under a separate declaration for the same occurrence.

The interest rates are:

For Physical Damage

Homeowners With Credit Available Elsewhere: 7.625%.

Homeowners Without Credit Available Elsewhere: 3.812%.

Businesses With Credit Available Elsewhere: 8.000%.

Businesses and Non-Profit Organizations Without Credit Available Elsewhere: 4.000%.

Others (Including Non-Profit Organizations) With Credit Available Elsewhere: 6.750%.

For Economic Injury

Businesses and Small Agricultural Cooperatives Without Credit Available Elsewhere: 4.000%.

The number assigned to this disaster for physical damage is 324106 and for economic injury the number is 9G7500.

It should be noted that this Presidential declaration supersedes the SBA disaster declaration approved on February 28, 2000 for the same occurrence.

(Catalog of Federal Domestic Assistance Program Nos. 59002 and 59008)
Dated: March 13, 2000.
Bernard Kulik,
Associate Administrator for Disaster Assistance.

[FR Doc. 00-7264 Filed 3-23-00; 8:45 am]

BILLING CODE 8025-01-P